DEPARTMENT OF THE INTERIOR

Bureau of Indian Affairs

Notice of Availability, Assessment Plan for Natural Resources Injured by Releases of Hazardous Substances From the Leviathan Mine

AGENCY: Bureau of Indian Affairs, Interior.

ACTION: Notice.

SUMMARY: The Bureau of Indian Affairs, on behalf of the Washoe Tribe of Nevada and California, the U.S. Fish and Wildlife Service, the U.S. Forest Service, the California Department of Fish and Game, and the Nevada Division of Environmental Protection, announces the release for public review of the Leviathan Mine Natural Resource Damage Assessment Plan—Public Release Draft (Assessment Plan). The Plan was developed by the Leviathan Mine Council Natural Resource Trustees, consisting of representatives of the Tribe and agencies listed above, to assess injuries to natural resources resulting from releases of hazardous substances from the Leviathan Mine in Alpine County, California. The Assessment Plan describes the proposed approach for determining and quantifying natural resource injuries and calculating damages associated with these injuries.

DATES: Comments on the Assessment Plan must arrive by June 24, 2002.

ADDRESSES: You may mail or hand deliver written comments to Mr. Wayne Nordwall, Regional Director, Bureau of Indian Affairs, Western Regional Office, P.O. Box 10, Phoenix, AZ 85001; or 400 N. Fifth Street, Phoenix, AZ 85004; or by facsimile (602) 379-4413.

The Assessment Plan is available for review, by appointment and during normal business hours, at the office locations of the following officials: (1) Curtis Milsap, Bureau of Indian Affairs, Western Nevada Agency, 1677 Hot Springs Road, Carson City, Nevada 89706, telephone (775) 887-3570; (2) John Krause, Bureau of Indian Affairs, Western Regional Office, 400 N. Fifth Street, Phoenix, Arizona 85004, telephone (602) 379-3723; (3) Robert Greenbaum, Washoe Tribe of Nevada and California, 919 U.S. Hwy. 395 South, Gardnerville, Nevada 89410, telephone (775) 265-4191 ext. 155; (4) Stan Wiemeyer, U.S. Fish & Wildlife Service, Nevada Fish & Wildlife Office, 1340 Financial Blvd., Suite 234, Reno, Nevada 89502, telephone (775) 861-6300; and (5) Melanie Markin, U.S. Fish & Wildlife Service, 2800 Cottage Way, W-2605, Sacramento, California 95825, telephone (916) 414-6638. In addition, the Assessment Plan is available for review at the Alpine County Library, 270 Laramie Street, Markleeville, California 96120, telephone (530) 694-2120; and on the Nevada Division of Environmental Protection Web site at http://ndep.state.nv.us/ admin/leviathan.htm.

FOR FURTHER INFORMATION CONTACT: Robert Greenbaum, (775) 265-4191 ext. 155.

SUPPLEMENTARY INFORMATION: In 1951, the Anaconda Copper Mining Company purchased the Leviathan Mine property, the former site of small copper sulfate and sulfur underground mining operations, in Alpine County, California. Anaconda developed the former underground mine into an open pit sulfur mine and operated the Mine through 1962. Anaconda sold the Mine in early 1963, but no further mining operations took place thereafter.

Releases of hazardous substances from the Mine began in the 1950s and continue today. Infiltration of precipitation into and through the adits (tunnels from the former underground mine), open pit, and overburden piles, along with direct contact of mine wastes with surface waters, has created acid mine drainage (AMD), which has been released, and continues to be released into the environment. AMD, which contains arsenic, copper, sulfuric acid, and other hazardous substances, has continued to be released into groundwater and into the surface waters and sediments in Aspen and Leviathan Creeks, and from there into Bryant Creek and the East Fork Carson River. Bryant Creek begins in California and crosses into Nevada, passing through several Indian Trust Allotments. Bryant Creek then flows into the East Fork Carson River. Releases of AMD from the Mine have resulted in fish kills in Leviathan and Bryant Creeks and the East Fork Carson River.

From the early 1980s, when the State of California acquired ownership of the Mine, through the late 1990s, the Lahontan Regional Water Quality Control Board (LRWQCB) constructed and operated the Leviathan Mine Pollution Abatement Project. However, this project did not eliminate the releases of hazardous substances, and it redirected several sources of AMD to new discharge points. Despite additional efforts by the LRWQCB, the U.S. Environmental Protection Agency (EPA), and the Atlantic Richfield Company (ARC), the successor in interest to its wholly owned subsidiary, Anaconda, to reduce the release of hazardous substances from the Mine, releases of AMD continued to have deleterious effects on natural resources at the Mine and downstream.

In May 2000, EPA added the Leviathan Mine Superfund Site to the National Priorities List [65 FR 30482]. Also in 2000, EPA issued separate orders to the LRWQCB and ARC pursuant to section 106(a) of the Comprehensive Environmental Response, Compensation, and Liability Act of 1980, as amended (CERCLA) [42 U.S.C. 9606(a)] to engage in hazardous waste removal actions. EPA's order to ARC also requires ARC to develop long-term response plans, including a Remedial Investigation/ Feasibility Study.

Pursuant to section 107(f) of CERCLA [42 U.S.C. 9607(f)], the Leviathan Mine Council Natural Resource Trustees (Trustees) are representatives of federal, state, and tribal government entities with trust authority over natural resources potentially injured by releases of hazardous substances from the Leviathan Mine. While EPA's focus is protecting human health and the environment, the Trustees have the authority to seek compensation from potentially responsible parties (PRPs) for past, present, and future injuries to trust natural resources caused by releases from the Mine. Such resources include, but are not limited to, groundwater, surface water, sediment, fish (including Lahontan Cutthroat Trout) and other aquatic biota, floodplain soils, riparian vegetation, and wildlife in and around the Leviathan Creek and Bryant Creek drainages, and a portion of the East Fork Carson River drainage. The assessment area includes the area surrounding and downstream from the Leviathan Mine in Alpine County, California; the Toiyabe National Forest; Indian Trust Allotments; Douglas County, Nevada; and the Washoe Indian Community of Dresslerville.

The Assessment Plan developed by the Trustees is intended to assess injuries to natural resources resulting from releases of hazardous substances from the Leviathan Mine. The Assessment Plan describes the proposed approach for determining and quantifying natural resource injuries and calculating damages associated with these injuries. By developing an Assessment Plan, the Trustees can ensure that the natural resource damage assessment will be completed at a reasonable cost. The Trustees also intend for the Assessment Plan to communicate proposed assessment methods to PRPs and to the public in an effective manner so that they can productively participate in the assessment process. The ultimate goal of the assessment is to seek damages from PRPs for the purpose of developing projects which will restore, rehabilitate, replace, or acquire the equivalent of the injured natural resources and the services they previously provided [43 CFR 11.81(a)(1)]. The Trustees may amend the Assessment Plan, but any significant amendments will be made available for public review [43 CFR 11.32(e)].

Public Comment Availability

Comments, including names and home addresses of respondents, will be available for public review at the mailing addresses shown in the ADDRESSES section, during regular business hours, 8:00 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Dated: May 14, 2002.
Neal A. McCaleb,
Assistant Secretary—Indian Affairs.

[FR Doc. 02-13060 Filed 5-23-02; 8:45 am]

BILLING CODE 4310-W7-P